DEPARTMENT OF DEFENSE

Office of the Department of the Air Force

Record of Decision for the Final Environmental Impact Statement Edwards Air Force Base Solar Project

AGENCY: Department of the Air Force, Department of Defense.

ACTION: Notice of availability.

SUMMARY: On November 23, 2020, the United States Air Force (USAF) signed the Record of Decision for the Final Environmental Impact Statement for the Edwards Air Force Base (AFB) Solar Project.

ADDRESSES: Mr. Mike Ackerman, AFCEC/CZN, Bldg 1, 2261 Hughes Ave (STE 155), JBSA-Lackland, TX 78236-9853, (210) 925-2741; michael.ackerman.2@us.af.mil.

SUPPLEMENTARY INFORMATION: The USAF has decided to lease up to 4,000 acres of undeveloped, non-excess land at Edwards AFB to a developer for the construction, operation, and maintenance of a solar photovoltaic renewable energy project.

The Air Force's decision, documented in the Record of Decision, was based on analysis provided in the Final Environmental Impact Statement, and includes inputs from the public and regulatory agencies. The Final Environmental Impact Statement was made available to the public on January 24, 2020 through a Notice of Availability in the Federal Register (Volume 85, Number 16, Page 4320) with a review period that ended on February 24, 2020.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane S. Paris,
Acting Air Force Federal Register Liaison Officer.

[FR Doc. 2020-28572 Filed 12-23-20; 8:45 am]

BILLING CODE 5001-10-P